DEPARTMENT OF ENERGY

Federal Energy Regulatory Commission

Combined Notice of Filings #1

Take notice that the Commission received the following electric corporate filings:

Docket Numbers: EC16-151-000.

Applicants: Raven Power Holdings LLC, C/R Energy Jade, LLC, Sapphire Power Holdings LLC, Talen Energy Corporation.

Description: Supplement to July 15, 2016 Joint Application of Talen Energy Corporation, et al., for Approval Pursuant to Section 203 of the Federal Power Act.

Filed Date: 9/22/16.

Accession Number: 20160922-5202.

Comments Due: 5 p.m. ET 10/3/16.

Docket Numbers: EC16-186-000.

Applicants: Drift Sand Wind Project, LLC.

Description: Application for Authorization Under Section 203 of the Federal Power Act, for Expedited Consideration and Confidential Treatment of Drift Sand Wind Project, LLC.

Filed Date: 9/22/16.

Accession Number: 20160922-5204.

Comments Due: 5 p.m. ET 10/13/16.

Take notice that the Commission received the following electric rate filings:

Docket Numbers: ER16-2645-000.

Applicants: Dan's Mountain Solar, LLC.

Description: Request for one-time, limited waiver, shortened comment period and expedited approval of Dan's Mountain Solar, LLC.

Filed Date: 9/22/16.

Accession Number: 20160922-5094.

Comments Due: 5 p.m. ET 10/6/16.

Docket Numbers: ER16-2651-000.

Applicants: Pacific Gas and Electric Company.

Description: § 205(d) Rate Filing: AltaGas GSFA and GIA Name Change Filing (SA 24 and 46) to be effective 11/22/2016.

Filed Date: 9/22/16.

Accession Number: 20160922-5171.

Comments Due: 5 p.m. ET 10/13/16.

Docket Numbers: ER16-2652-000.

Applicants: NorthWestern Corporation.

Description: § 205(d) Rate Filing: Non-Conforming Large Generator Interconnection Agreements, Part 1 of 2 to be effective 9/29/2010.

Filed Date: 9/22/16.

Accession Number: 20160922-5178.

Comments Due: 5 p.m. ET 10/13/16.

Take notice that the Commission received the following electric reliability filings:

Docket Numbers: RR16-6-000.

Applicants: North American Electric Reliability Corporation.

Description: Supplemental Clarification Filing of the North American Electric Reliability Corporation Concerning Proposed 2017 Business Plans and Budgets of Northeast Power Coordinating Council, Inc. and ReliabilityFirst Corporation.

Filed Date: 9/23/16.

Accession Number: 20160923-5169.

Comments Due: 5 p.m. ET 9/30/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2016.
Nathaniel J. Davis, Sr.,
Deputy Secretary.

[FR Doc. 2016-23541 Filed 9-28-16; 8:45 am]

BILLING CODE 6717-01-P